DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Management and Oversight of the National Estuarine Research Reserve System.

OMB Control Number: 0648-0121.

Form Number(s): NA.

Type of Request: Regular submission (renewal of a currently approved information collection).

Number of Respondents: 29.

Average Hours per Response: Applications for funding, 1 hour; management plans, site nominations and site profiles, 2,000 hours each.

Burden Hours: 10,682.

Needs and Uses: The Coastal Zone Management Act of 1972 (CZMA; 16 U.S.C. 1461 et seq.) provides for the designation of estuarine research reserves representative of various regions and estuarine types in the United States to provide opportunities for long-term research, education and interpretation. During the site selection and designation process, information is collected from states in order to prepare a management plan and environmental impact statement. The designated reserves apply annually for operations funds by submitting a work plan; subsequently progress reports are required every six months for the duration of the award. Each reserve compiles an ecological characterization or site profile to describe the biological and physical environment of the reserve, research to date and research gaps. A competitive research program provides an opportunity for two researchers to focus their work at each reserve. Reserves are evaluated every three years, per section 312 of the Act, and revise their management plans every five years. This information is required to ensure that reserves are adhering to regulations and keeping with the purpose for which they were designated.

Affected Public: Not-for-profit organizations; state, local and tribal government.

Frequency: Annually or one-time.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: August 19, 2010.
Gwellnar Banks,
Management Analyst, Office of the Chief Information Officer.

[FR Doc. 2010-20944 Filed 8-23-10; 8:45 am]

BILLING CODE 3510-08-P